DEPARTMENT OF TRANSPORTATION

Federal Aviation Administration

Public Notice for a Change in Use of Aeronautical Property at Anacortes Airport, Anacortes, Washington

AGENCY: Federal Aviation Administration (FAA), DOT.

ACTION: Notice of Request for public comment.

SUMMARY: The FAA is requesting comments on the Port of Anacortes, Anacortes, Washington, request to change a portion (approximately 4.8 acres) of airport property from aeronautical use to non-aeronautical use. The property is located on the southeast side of the airport, adjacent to residential dwellings.The property is undeveloped and will not be developed for aeronautical purposes. The property will remain available for non-aeronautical airport purposes. The property was acquired through ADAP/AIP grants several years ago.

This notice is the result of an agreement between the Port of Anacortes (Port), the owner and operator of the airport, and the city of Anacortes (City), the zoning and permitting authority, to establish a sub-area zoning plan, an obstruction removal and safety fence installation project, and a Development Agreement providing for future (20 years) airport development.

There are several positive impacts to the airport by allowing the airport to remove the aeronautical use obligation. The acrimonious relationship between the Port and the City is improving after a decade of deterioration. The airport users benefit from a stabilized relationship between the Port and the City. The airport and the airport users benefit from vested permits for construction of safety and perimeter fences and to remove Part 77 obstructions. Airport developers benefit from a predictable building permit application process where aeronautical uses are “permitted uses” rather than “conditional uses”.

The proposal provides for the Port to provide the appraised value of ($135,000) for development rights to the property. The funds will be utilized, with the agreement of FAA, for Airport Improvement Plan eligible airport capital improvement projects.

DATES: Comments must be received on or before September 12, 2005.

ADDRESSES: comments must be mailed or delivered to the FAA at the following address: J.Wade Bryant, Manager; Federal Aviation Administration, Northwest Mountain Region, Airports Division, Seattle Airports District Office; 1601 Lind Avenue, SW., Suite 250; Renton, Washington 98055-4056. Telephone number: (425) 227-2650; Fax number (425) 227-1650.

In addition, one copy of any comments submitted to the FAA must be mailed or delivered to Anacortes, Airport, Anacortes, Washington: Mr. Dan Stahl, Executive Director; Port of Anacortes; P.O. Box 297; Anacortes, WA 98221.Telephone number: (360) 293-3134; Fax number (360) 293-9608.

FOR FURTHER INFORMATION CONTACT: J. Wade Bryant, at the above address. Documents reflecting this request may be reviewed by appointment at this same location or at the Offices of the Port of Anacortes, Anacortes, Washington.

SUPPLEMENTARY INFORMATION: Section 125 of the Wendell H. Ford Aviation Investment and Reform Act for the 21st Century (AIR-21) requires the FAA to provide an opportunity for public notice and comment prior to the “waiver” or “modification” of a sponsor's Federal obligation to use certain airport land for aeronautical purposes.

J. Wade Bryant, Manager,
Seattle Airports District Office

[FR Doc. 05-15851 Filed 8-10-05; 8:45 am]

BILLING CODE 4910-13-M